DEPARTMENT OF COMMERCE

National Oceanic and Atmospheric Administration

RIN 0648-XU13

Marine Fisheries Advisory Committee; Public Meetings

AGENCY: National Marine Fisheries Service (NMFS), National Oceanic and Atmospheric Administration (NOAA), Commerce.

ACTION: Notice of open public meeting.

SUMMARY: Notice is hereby given of a meeting of the Marine Fisheries Advisory Committee (MAFAC). This will be the first meeting to be held in the calendar year 2010. Agenda topics are provided under the SUPPLEMENTARY INFORMATION section of this notice. All full Committee sessions will be open to the public.

DATES: The meetings will be held February 23-25, 2010, from 8:30 a.m. to 5 p.m.

ADDRESSES: The meetings will be held at the Sheraton Waikiki, 2255 Kalakaua Avenue in Honolulu, HI 96815; 808-922-4422.

FOR FURTHER INFORMATION CONTACT: Mark Holliday, MAFAC Executive Director; (301) 713-2239 x-120; e-mail: Mark.Holliday@noaa.gov.

SUPPLEMENTARY INFORMATION: As required by section 10(a)(2) of the Federal Advisory Committee Act, 5 U.S.C. App. 2, notice is hereby given of a meeting of MAFAC. MAFAC was established by the Secretary of Commerce (Secretary) on February 17, 1971, to advise the Secretary on all living marine resource matters that are the responsibility of the Department of Commerce. This committee advises and reviews the adequacy of living marine resource policies and programs to meet the needs of commercial and recreational fisheries, and environmental, State, consumer, academic, tribal, governmental and other national interests. The complete charter and summaries of prior meetings are located online at http://www.nmfs.noaa.gov/ocs/mafac/.

Matters To Be Considered

This agenda is subject to change.

The meeting is primarily convened to hear presentations and discuss policies and guidance on the draft NOAA catch share policy and the Fiscal Year 2010-2012 budget process for NOAA. The meeting will also include: an update on NOAA aquaculture program activities; an update on the Interagency Ocean Policy Task Force activities; discussion of various MAFAC administrative and organizational matters including approval of the revised charter and establishment of the new recreational fishing work group; and meetings of the standing subcommittees including development of their work plans for this year.

Special Accommodations

These meetings are physically accessible to people with disabilities. Requests for sign language interpretation or other auxiliary aids should be directed to Mark Holliday, MAFAC Executive Director; (301) 713-2239 x120 by 5 p.m. on February 10, 2010.

Dated: January 27, 2010
Samuel D. Rauch III,
Deputy Assistant Administrator for Regulatory Programs, National Marine Fisheries Service.

[FR Doc. 2010-2159 Filed 2-1-10; 8:45 am]

BILLING CODE 3510-22-S